ENVIRONMENTAL PROTECTION AGENCY

[FRL-9942-67-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 1688.08; RCRA Expanded Public Participation (Renewal); 40 CFR 270.62, 270.66, 124.31, 124.32, and 124.33; was approved without change on 8/26/2015; OMB Number 2050-0149; expires on 8/31/2018.

EPA ICR Number 2381.03; Lead; Clearance and Clearance Testing Requirements for the Renovation, Repair, and Painting Program (Renewal); 40 CFR part 745; was approved without change on 8/27/2015; OMB Number 2070-0181; expires on 8/31/2018.

EPA ICR Number 1715.14; TSCA Section 402 and Section 404 Training and Certification, Accreditation and Standards for Lead-Based Paint Activities and Renovation, Repair, and Painting (Renewal); 40 CFR part 745; was approved without change on 8/27/2015; OMB Number 2070-0155; expires on 8/31/2018.

EPA ICR Number 1669.07; Lead-Based Paint Pre-Renovation Information Dissemination—TSCA sec. 406(b) (Renewal); 40 CFR part 745; was approved without change on 8/27/2015; OMB Number 2070-0158; expires on 8/31/2018.

EPA ICR Number 2205.15; Focus Groups as Used by EPA For Economics Projects (Renewal); was approved without change on 9/29/2015; OMB Number 2090-0028; expires on 9/30/2018.

EPA ICR Number 1608.07; State Program Adequacy Determination: Municipal Solid Waste Landfills (MSWLFs) and Non-Municipal, Non-Hazardous Waste Disposal Units that Receive Conditionally Exempt Small Quantity Generator (CESQG) Hazardous Waste (Renewal); 40 CFR parts 239, 257 and 258; was approved without change on 9/14/2015; OMB Number 2050-0152; expires on 9/30/2018.

EPA ICR Number 0969.10; Final Authorization for Hazardous Waste Management Programs (Renewal); 40 CFR parts 271.5, 271.7, 271.8, 271.20, 271.21, 271.6 and 271.23; was approved without change on 9/14/2015; OMB Number 2050-0041; expires on 9/30/2018.

EPA ICR Number 1057.13; NSPS for Sulfuric Acid Plants (Renewal); 40 CFR part 60, subpart H and A; was approved without change on 9/10/2015; OMB Number 2060-0041; expires on 9/30/2018.

EPA ICR Number 0143.12; Recordkeeping Requirements for Producers, Registrants, and Applicants of Pesticides and Pesticide Devices under Section 8 of the Federal Insecticide, Fungicide, and Rodenticide Act (FIFRA) (Renewal); 40 CFR part 169; was approved without change on 9/10/2015; OMB Number 2070-0028; expires on 9/30/2018.

EPA ICR Number 1049.13; Notification of Episodic Releases of Oil and Hazardous Substances (Renewal); 40 CFR parts 110, 117 and 302; was approved without change on 9/10/2015; OMB Number 2050-0046; expires on 9/30/2018.

EPA ICR Number 1442.22; Land Disposal Restrictions (Renewal); 40 CFR part 268; was approved with change on 9/10/2015; OMB Number 2050-0085; expires on 9/30/2018.

EPA ICR Number 1204.12; Submission of Unreasonable Adverse Effects Information under FIFRA (Renewal); 40 CFR part 159, subpart D; was approved without change on 9/8/2015; OMB Number 2070-0039; expires on 9/30/2018.

EPA ICR Number 2427.03; Aircraft Engines—Supplemental Information Related to Exhaust Emissions (Renewal); 40 CFR part 87; was approved without change on 9/1/2015; OMB Number 2060-0680; expires on 9/30/2018.

Courtney Kerwin,
Acting Director, Collections Strategies Division.

[FR Doc. 2016-03715 Filed 2-22-16; 8:45 am]

BILLING CODE 6560-50-P